DEPARTMENT OF HEALTH AND HUMAN SERVICES

Centers for Disease Control and Prevention

[30 Day-05-0465X]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an e-mail to omb@cdc.gov. Send written comments to CDC Desk Officer, Human Resources and Housing Branch, New Executive Office Building, Room 10235, Washington, DC 20503 or by fax to (202) 395-6974. Written comments should be received within 30 days of this notice.

Proposed Project

Audience Research to Identify Middle School Social Norms about Dating Relationships—New—National Center for Injury Prevention and Control (NCIPC), Centers for Disease Control and Prevention (CDC).

Intimate partner violence (IPV) and sexual violence is a significant problem in the United States. According to the National Violence against Women Survey, an intimate partner physically assaults or rapes approximately 1.5 million women and 850,000 men in the United States each year. Many more individuals are subjected to threats of violence and psychological and emotional abuse. Alarmingly, IPV behaviors are manifested in youth populations. The literature suggests that attitudes and behaviors can be shaped and reinforced more easily and more effectively as they are developing in youth than after they have been firmly established. To begin to address IPV and sexual violence in youth populations, the CDC's NCIPC has developed a media campaign entitled “Choose Respect.” The campaign targets prevailing norms that support victimization and perpetration of violence against women. Because attitudes and behaviors related to IPV begin to manifest early on, CDC will focus its efforts on early adolescents, and on the people who influence them. The goal of CDC's Media Campaign, Choose Respect, is to increase the social norm among adolescents that any form of violence between intimate partners, whether physical, verbal or sexual is considered inappropriate and unacceptable.

The purpose of the evaluation is to document and provide interim and ongoing feedback to campaign planners regarding the implementation and progress of the campaign. The evaluation will be conducted by collecting data from adolescents, their parents, and teachers following campaign implementation in the target markets for a broad perspective of campaign awareness. The pilot campaign will target youth as the primary audience, with parents, teachers, and counselors targeted as secondary audiences in two market areas: Austin, Texas and Kansas City, Kansas. The teachers will be screened prior to participating in the campaign. A post-campaign survey will be conducted with adolescents, their parents and their teachers or counselors to determine attitudes, beliefs and intended behaviors toward IPV and sexual violence after implementation of the campaign.

The post research design of this campaign's evaluation will aid CDC in assessing the changes in attitudes, beliefs and behaviors associated with the pilot campaign and will suggest revision of the campaign materials for a future launch nationwide. There are no costs to respondents except their time to respond. The total annual burden for this data collection is 1,125 hours.

Annualized Burden Table
Respondents | Number of respondents | Number of responses/ respondent | Avg. burden/ response (in hrs.)
Teacher Screener | 60 | 1 | 5/60
Teacher's Post-campaign Survey | 60 | 1 | 20/60
Parent's Post-campaign Survey | 1100 | 1 | 15/60
Adolescent's Post-campaign Survey | 1100 | 1 | 45/60

Dated: March 10, 2005.
Betsey Dunaway,
Acting Reports Clearance Officer, Centers for Disease Control and Prevention.

[FR Doc. 05-5143 Filed 3-15-05; 8:45 am]

BILLING CODE 4163-18-P